DEPARTMENT OF DEFENSE

Office of the Secretary

[Transmittal No. 16-53]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Pam Young, DSCA/SE&E-RAN, (703) 697-9107.

The following is a copy of a letter to the Speaker of the House of Representatives, Transmittal 16-53 with attached Policy Justification and Sensitivity of Technology.

Dated: December 2, 2016.
Aaron Siegel,
Alternate OSD Federal Register Liaison Officer, Department of Defense.

Transmittal No. 16-53

Notice of Proposed Issuance of Letter of Offer Pursuant to Section 36(b)(1) of the Arms Export Control Act, as amended

(i) Prospective Purchaser: United Kingdom.

(ii) Total Estimated Value:

Major Defense Equipment * | $780 million
Other | $220 million
TOTAL | $1.00 billion

(iii) Description and Quantity or Quantities of Articles or Services under Consideration for Purchase:

Major Defense Equipment (MDE):

Twenty-six (26) Certifiable Predator B Remotely Piloted Aircraft (16 with option for additional 10)

Twelve (12) Advanced Ground Control Stations (GCSs) (8 with option for additional 4)

Four (4) New Launch and Recovery Element GCSs

Four (4) Upgrades to existing Blk 15 Launch and Recovery Element GCSs (2 with option for additional 2)

Twenty-five (25) Multi-spectral Targeting Systems (12 + 2 spares, with option for additional 10 + 1 spare)

Twenty-five (25) AN/APY-8 Lynx IIe Block 20A Synthetic Aperture Radar and Ground Moving Target Indicators (SAR/GMTI) (12 + 2 spares, with option for additional 10 + 1 spare)

Eighty-six (86) Embedded Global Positioning System/Inertial Guidance Units (EGIs) (3 per aircraft) (48 + 5 spares, with option for additional 30 + 3 spares)

Non-MDE include:

Non-MDE items include: communications equipment, Identification Friend or Foe (IFF) equipment, weapons installation kits, and TPE331-10YGD engines. In addition, the package provides a unique and common spares package, support equipment, U.S. Air Force technical orders, country specific technical orders, Contractor Logistics Support for two (optional three) years, contractor provided aircraft components, spares, and accessories, training, and other related elements of logistical and program support.

(iv) Military Department: Air Force (X6-D-SAC).

(v) Sales Commission, Fee, etc., Paid, Offered, or Agreed to be Paid: None.

(vi) Sensitivity of Technology Contained in the Defense Article or Defense Services Proposed to be Sold: See Annex Attached.

(vii) Date Report Delivered to Congress: November 16, 2016.

* as defined in Section 47(6) of the Arms Export Control Act.

POLICY JUSTIFICATION

United Kingdom—Certifiable Predator B Remotely Piloted Aircraft

The United Kingdom (UK) requested a possible sale of up to twenty-six (26) Certifiable Predator B Remotely Piloted Aircraft (16 with option for additional 10); twelve (12) Advanced Ground Control Stations (GCSs) (8 with option for additional 4); four (4) New Launch and Recovery Element GCSs; four (4) Upgrades to existing Blk 15 Launch and Recovery Element GCSs (2 with option for additional 2); twenty-five (25) Multi-spectral Targeting Systems (12 + 2 spares, with option for additional 10 + 1 spare); twenty-five (25) AN/APY-8 Lynx IIe Block 20A Synthetic Aperture Radar and Ground Moving Target Indicators (SAR/GMTI) (12+ 2 spares, with option for additional 10 + 1 spare); Eighty-six (86) Embedded Global Positioning System/Inertial Guidance Units (EGIs) (3 per aircraft) (48 + 5 spares, with option for additional 30 + 3 spares). This sale also includes communications equipment, Identification Friend or Foe (IFF) equipment; weapons installation kits; TPE331-10YGD engines; unique and common spares package; support equipment; U.S. Air Force technical orders; country specific technical orders; Contractor Logistics Support for two (optional three) years; contractor provided aircraft components, spares, and accessories; personnel training; and other related elements of logistical and program support. The total estimated program cost is $1.0 billion.

The UK is a close ally and an important partner on critical foreign policy and defense issues. The proposed sale will enhance U.S. foreign policy and national security objectives by enhancing the UK's capabilities to provide national defense and contribute to NATO and coalition operations.

This sale will improve the UK's ability to meet current and future threats by providing improved Intelligence, Surveillance and Reconnaissance (ISR) coverage that enhances homeland security, promotes increased battlefield situational awareness, augments combat search and rescue, and provides ground troop support. The Certifiable Predator B will also be used to support the UK's armed forces and coalition forces engaged in current and future peacekeeping, peace-enforcing, counter-insurgent, and counterterrorism operations. The UK already operates armed remotely piloted aircraft, the MQ-9 Reaper, and will have no difficulty transitioning to the Certifiable Predator B.

The proposed sale of this equipment and support will not alter the basic military balance in the region.

The principal contractors will be General Atomics Aeronautical Systems, Inc. in San Diego, California. There are no known offset agreements proposed in connection with this potential sale.

Implementation of this proposed sale will not require the assignment of any additional U.S. Government or contractor representatives to the UK.

There will be no adverse impact on U.S. defense readiness as a result of this proposed sale.

Transmittal No. 16-53

Notice of Proposed Issuance of Letter of Offer Pursuant to Section 36(b)(1) of the Arms Export Control Act

Annex Item

No. vii

(vii) Sensitivity of Technology:

1. The Certifiable Predator B (CPB) Remotely Piloted Aircraft (RPA) is a weapons-capable aircraft designed for medium to high altitude-long endurance Intelligence, Surveillance and Reconnaissance (ISR), Target Acquisition, and Strike missions. Protector (formerly known as Scavenger) represents the CPB as modified to a UK-specific configuration which includes the design, development and integration of a UK-specific weapons installation kit for employment of UK-produced weapons (Paveway IV and Brimstone II). Building upon the legacy of Predator B's proven success, CPB/Protector provides up to 40 hours endurance, speeds up to 220 knots true air speed (KTAS) and a maximum altitude of 45,000 feet. The system is designed to be controlled by two operators within an Advanced Ground Control Station (AGCS). The AGCS is designed to emulate a reconnaissance aircraft cockpit, giving users extensive means to operate both the aircraft and sensors. CPB/Protector is able to operate using a direct Line-of-Sight (LOS) datalink or can be operated Beyond Line-of-Sight (BLOS) using satellite communications (SATCOM). The design enables unmanned aerial vehicle (UAV) control to be handed off between multiple AGCSs thus allowing remote-split operations and centralized mission control with other assets. The CPB/Protector system can be deployed from a single site that supports launch, recovery, mission control, and maintenance. The system also supports remote-split operations where launch, recovery, and maintenance occur at a Forward Operating Base and mission control is conducted from another geographically separated location, or Main Operating Base (MOB).

2. The United Kingdom CPB/Protector system includes the following components.

a. A secure Advanced CGCS with workstations that allow operators to control and monitor the aircraft, as well as record and exploit downlinked payload data.

b. The unclassified General Atomics AN/APY-8 Block 20 Lynx Ile Synthetic Aperture Radar and Ground Moving Target Indicator (SAR/GMTI) system provides an all-weather surveillance, tracking and targeting capability. The AN/APY-8 Block 20 operates in the Ku band, using an offset-fed dish antenna mounted on a three-axis stabilized gimbal. It has a large field of regard, produces a strip map and can image up to a l0km wide swath. Swaths from multiple passes can be combined for wide-area surveillance.

c. The Raytheon Multi-spectral Targeting System with Laser Target Designator (LTD) and multi-use Electro-Optical (EO)/lnfra-Red (IR) sensor provides long-range surveillance, high-altitude target acquisition, tracking, and range-finding with capabilities up to and including high definition color TV, high definition short-wave IR, medium-wave IR, and long wave IR sensors.

d. The weapons installation kit enables the integration of UK-produced munitions (Paveway IV and Brimstone II) onto the Protector platform. The integration of these munitions requires specialized non-recurring engineering work which will be performed by the platform OEM in the United States.

3. If a technologically advanced adversary were to obtain knowledge of the specific hardware or software in this proposed sale, any information gleaned from exploitation of hardware, publications and software could be used to develop countermeasures (electronic, infrared, or other types) as well as offensive and defensive counter-tactics and allow an adversary to exploit those vulnerabilities during combat.

4. A determination has been made that the recipient country can provide substantially the same degree of protection for the sensitive technology being released as the US Government. This sale is necessary in furtherance of the U.S. foreign policy and national security objectives outlined in the Policy Justification.

5. All defense articles and services listed in this transmittal have been authorized for release and export to the United Kingdom.

[FR Doc. 2016-29393 Filed 12-7-16; 8:45 am]

BILLING CODE 5001-06-P